NATIONAL FOUNDATION ON THE ARTS AND THE HUMANITIES

National Endowment for the Arts

National Council on the Arts 188th Meeting

AGENCY: National Endowment for the Arts, National Foundation on the Arts and Humanities.

ACTION: Notice of meeting.

SUMMARY: Pursuant to section 10(a)(2) of the Federal Advisory Committee Act (Public Law 92-463), as amended, notice is hereby given that a meeting of the National Council on the Arts will be held in Conference Rooms A & B at Constitution Center, 400 7th St., SW., Washington, DC 20506. Agenda times are approximate.

DATES: Friday, June 24, 2016 from 9 a.m. to 11:15 a.m.

FOR FURTHER INFORMATION CONTACT: Office of Public Affairs, National Endowment for the Arts, Washington, DC 20506, at 202/682-5570.

SUPPLEMENTARY INFORMATION: The meeting, on March 24th in Conference Rooms A & B, from 9:30 a.m. to 11:15 a.m., will be open to the public on a space available basis. The tentative agenda is as follows: The meeting will begin at 9 a.m. with opening remarks and voting on recommendations for funding and rejection and guidelines, followed by updates from the Chairman. There also will be the following presentations (times are approximate): from 9:30 a.m. to 10 a.m.—Presentation on the Cooper-Hewitt “Pen” Project (Caroline Baumann, Director, Cooper-Hewitt National Design Museum); from 10 a.m. to 10:30 a.m.—Presentation on Public Art App from Michigan Council for Arts and Cultural Affairs (John Bracey, Executive Director, Michigan Council for Arts and Cultural Affairs); from 10:30 a.m. to 11 a.m.—Presentation on The Virtual Choir (Eric Whitacre, Composer & Conductor). From 11 to 11:15 a.m. there will be concluding remarks from the Chairman and announcement of voting results. The meeting will adjourn at 11:15 a.m.

The meeting also will be webcast. To register to watch the webcasting of this open session, go to: https://www.arts.gov/event/2016/national-council-arts-june-2016-public-meeting

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW, Washington, DC 20506, 202/682-5733, Voice/T.T.Y. 202/682-5496, at least seven (7) days prior to the meeting.

Dated: May 25, 2016.
Kathy Plowitz-Worden,
Panel Coordinator, Office of Guidelines and Panel Operations.

[FR Doc. 2016-12727 Filed 5-27-16; 8:45 am]

BILLING CODE 7537-01-P